DEPARTMENT OF HOMELAND SECURITY

Coast Guard

33 CFR Part 165

[Docket No. USCG-2022-0157]

Safety Zone; Recurring Events in Captain of the Port Duluth—Bridgefest Regatta Fireworks

AGENCY: Coast Guard, DHS.

ACTION: Notice of enforcement of regulation.

SUMMARY: The Coast Guard will enforce a safety zone for the Bridgefest Regatta Fireworks in Houghton, MI from 9:30 p.m. through 10:30 p.m. This action is necessary to protect participants and spectators during the Bridgefest Regatta Fireworks. During the enforcement period, entry into, transiting, or anchoring within the safety zone is prohibited unless authorized by the Captain of the Port Duluth or their designated on-scene representative.

DATES: The regulations in 33 CFR 165.943 will be enforced for the location identified in Item 1 of Table 1 to § 165.943 from 9:30 p.m. through 10:30 p.m. on June 18, 2022.

FOR FURTHER INFORMATION CONTACT: If you have questions about this notice of enforcement, call or email LTJG Joseph R. McGinnis, telephone 218-725-3818, email DuluthWWM@uscg.mil.

SUPPLEMENTARY INFORMATION: The Coast Guard will enforce the regulations in 33 CFR 165.943 for the Bridgefest Regatta Fireworks event identified in Item 1 of Table 1 to § 165.943 on all waters of the Keweenaw Waterway bounded by the arc of a circle with a 100-yard radius from the fireworks launch site with its center in approximate position 47°07′28″ N, 088°35′02″ W from 9:30 p.m. through 10:30 p.m.on June 18, 2022. This action is necessary to protect participants and spectators during the Bridgefest Regatta Fireworks.

Entry into, transiting, or anchoring within the safety zone is prohibited unless authorized by the Captain of the Port Duluth or their designated on-scene representative. The Captain of the Port's designated on-scene representative may be contacted via VHF Channel 16.

This document is issued under authority of 33 CFR 165.943 and 5 U.S.C. 552 (a). In addition to this publication in the Federal Register, the Coast Guard will provide the maritime community with advance notification of the enforcement of this safety zone via Broadcast Notice to Mariners.

Dated: March 23, 2022.
F.M. Smith,
CDR, U.S. Coast Guard, Captain of the Port Duluth.

[FR Doc. 2022-06522 Filed 3-28-22; 8:45 am]

BILLING CODE 9110-04-P